DEPARTMENT OF AGRICULTURE

Natural Resources Conservation Service

Notice of Meeting of the Agricultural Air Quality Task Force

AGENCY: Natural Resources Conservation Service (NRCS).

ACTION: Notice of meeting.

SUMMARY: The Agricultural Air Quality Task Force (AAQTF) will meet to continue discussions on air quality issues relating to agriculture.

DATES: The meeting will convene at 8 a.m. on Wednesday and Thursday, May 6-7, 2009, and conclude at 5:15 p.m. and 6 p.m., respectively. A public comment period will be held on May 6, 2009. Individuals making oral presentations should register in person at the meeting site and must bring 50 copies of any material they would like distributed. Written materials for AAQTF's consideration prior to the meeting must be received by Michele Laur (address given below) no later than April 20, 2009.

ADDRESSES: The meeting will be held at the Radisson Hotel located at 2233 Ventura Street, Fresno, California 93721; telephone: (800) 617-1335 or (559) 268-1000.

FOR FURTHER INFORMATION CONTACT: Questions and comments should be directed to Michele Laur, Designated Federal Official. Ms. Laur may be contacted at NRCS, Post Office Box 2890, Room 6165-S, Washington, DC 20013; telephone: (202) 720-1858; e-mail: michele.laur@wdc.usda.gov.

SUPPLEMENTARY INFORMATION: Notice of this meeting is given under the Federal Advisory Committee Act, 5 U.S.C. App. 2. Additional information concerning AAQTF, may be located on the Web site at http://www.airquality.nrcs.usda.gov/AAQTF/.

Draft Agenda of the May 6, 2009, Meeting of AAQTF*

Wednesday, May 6, 2009

A. Welcome to Fresno.

B. Discussion of California Air Quality Issues.

C. Discussion of Greenhouse Gas.

D. Public Comments.

(Time will be reserved on May 6 to receive public comment. Individual presentations will be limited to 5 minutes).

Thursday, May 7, 2009

D. Discussion of Engine Emissions and Regulations.

E. Discussion of Reactive Nitrogen.

F. Discussion of Subcommittee Recommendations

G. Next Meeting, Time and Place.

*Please note that the timing of events in the agenda is subject to change to accommodate changing schedules of expected speakers.

Procedural

This meeting is open to the public. At the discretion of the Chair, members of the public may give oral presentations during the meeting. Those persons wishing to make oral presentations should register in person at the meeting site. Those wishing to distribute written materials at the meeting (in conjunction with spoken comments) must bring 50 copies of the materials with them. Written materials for distribution to AAQTF members prior to the meeting must be received by Ms. Laur no later than April 20, 2009.

Information on Services for Individuals With Disabilities

For information on facilities or services for individuals with disabilities, or to request special assistance at the meeting, please contact Ms. Laur. The Department of Agriculture (USDA) prohibits discrimination in its programs and activities on the basis of race, color, national origin, gender, religion, age, sexual orientation, or disability. Additionally, discrimination on the basis of political beliefs and marital or family status is also prohibited by statutes enforced by USDA (not all prohibited bases apply to all programs). Persons with disabilities who require alternate means for communication of program information (Braille, large print, audio tape, etc.) should contact the USDA Target Center at (202) 720-2000 (voice and TDD). USDA is an equal opportunity provider and employer.

Signed in Washington, DC, on March 25, 2009.
Dave White,
Acting Chief.

[FR Doc. E9-8538 Filed 4-14-09; 8:45 am]

BILLING CODE 3410-16-P